DEPARTMENT OF ENERGY

Bonneville Power Administration

Electrical Interconnection of the Juniper Canyon I Wind Project

AGENCY: Bonneville Power Administration (BPA), Department of Energy (DOE).

ACTION: Notice of Availability of Record of Decision (ROD).

SUMMARY: The Bonneville Power Administration (BPA) has decided to offer Iberdrola Renewables, LLC, a Large Generator Interconnection Agreement for interconnection of up to 150 megawatts of power into the Federal Columbia River Transmission System. The power would be generated from their proposed Juniper Canyon I Wind Energy Project (Wind Project) in Klickitat County, Washington. To interconnect the Wind Project, BPA will expand an existing substation (Rock Creek Substation) by approximately .25 acres. This decision to interconnect the Wind Project is consistent with and tiered to BPA's Business Plan Environmental Impact Statement (DOE/EIS-0183, June 1995), and the Business Plan Record of Decision (BP ROD, August 1995).

ADDRESSES: Copies of this tiered ROD and the Business Plan EIS may be obtained by calling BPA's toll-free document request line, 1-800-622-4520. The RODs and EIS are also available on our Web site, http://www.efw.bpa.gov.

FOR FURTHER INFORMATION CONTACT: Makary Hutson, Bonneville Power Administration—KEC-4, P.O. Box 3621, Portland, Oregon 97208-3621; toll-free telephone number 1-800-622-4519; fax number 503-230-5699; or e-mail mahutson@bpa.gov.

Issued in Portland, Oregon, on May 10, 2010.
Stephen J. Wright,
Administrator and Chief Executive Officer.

[FR Doc. 2010-11672 Filed 5-14-10; 8:45 am]

BILLING CODE 6450-01-P